DEPARTMENT OF TRANSPORTATION

Pipeline and Hazardous Materials Safety Administration

[Docket No. PHMSA-2021-0055 (Notice No. 2021-06)]

Hazardous Materials: Information Collection Activities

AGENCY: Pipeline and Hazardous Materials Safety Administration (PHMSA), Transportation (DOT).

ACTION: Notice and request for comments.

SUMMARY: In accordance with the Paperwork Reduction Act of 1995, this notice announces that the Information Collection Requests (ICRs) discussed below will be forwarded to the Office of Management and Budget for renewal and extension. These ICRs describe the nature of the information collections and their expected burdens.

DATES: Interested persons are invited to submit comments on or before September 9, 2021.

ADDRESSES: Written comments and recommendations for the proposed information collection should be sent within 30 days of publication of this notice to www.reginfo.gov/public/do/PRAMain. Find this particular information collection by selecting “Currently under 30-day Review—Open for Public Comments” or by using the search function.

We invite comments on: (1) Whether the proposed collection of information is necessary for the proper performance of the functions of the Department, including whether the information will have practical utility; (2) the accuracy of the Department's estimate of the burden of the proposed information collection; (3) ways to enhance the quality, utility, and clarity of the information to be collected; and (4) ways to minimize the burden of the collection of information on respondents, including the use of automated collection techniques or other forms of information technology.

Docket: For access to the dockets to read background documents or comments received, go to http://www.regulations.gov.

FOR FURTHER INFORMATION CONTACT: Steven Andrews or Shelby Geller, Standards and Rulemaking Division, (202) 366-8553, ohmspra@dot.gov, Pipeline and Hazardous Materials Safety Administration, U.S. Department of Transportation, 1200 New Jersey Avenue SE, Washington, DC 20590-0001.

SUPPLEMENTARY INFORMATION: Section 1320.8(d), title 5, Code of Federal Regulations (CFR) requires PHMSA to provide interested members of the public and affected agencies an opportunity to comment on information collection and recordkeeping requests. This notice identifies information collection requests that PHMSA will be submitting to the Office of Management and Budget (OMB) for renewal and extension. These information collections are contained in 49 CFR 171.6 of the Hazardous Materials Regulations (HMR; 49 CFR parts 171-180). PHMSA has revised burden estimates where appropriate to reflect current reporting levels or adjustments based on changes in proposed or final rules published since the information collections were last approved. The following information is provided for each information collection: (1) Title of the information collection, including former title if a change is being made; (2) OMB control number; (3) summary of the information collection activity; (4) description of affected public; (5) estimate of total annual reporting and recordkeeping burden; and (6) frequency of collection. PHMSA will request a 3-year term of approval for each information collection activity and will publish a notice in the Federal Register upon OMB's approval.

A notice and request for comments with a 60-day comment period on these ICRs was published in the Federal Register on May 18, 2021, [86 FR 27009] under Docket No. PHMSA-2021-0055 (Notice No. 2021-04). PHMSA did not receive any comments in response to this notice.

PHMSA requests comments on the following information collections:

Title: Rulemaking, Special Permits, and Preemption Requirements.

OMB Control Number: 2137-0051.

Summary: This information collection applies to procedures for requesting changes, exceptions, and other determinations in relation to the HMR. Specific areas covered in this information collection include part 105, subparts A and B, “Hazardous Materials Program Definitions and General Procedures”; part 106, subpart B, “Participating in the Rulemaking Process”; part 107, subpart B, “Special Permits”; and part 107, subpart C, “Preemption.” The Federal hazardous materials transportation law directs the Secretary of Transportation to prescribe regulations for the safe transportation of hazardous materials in commerce. PHMSA is authorized to accept petitions for rulemaking and appeals, as well as applications for special permits, preemption determinations, and waivers of preemption. The types of information collected include:

(1) Petitions for Rulemaking: Any person may petition PHMSA to add, amend, or delete a regulation in parts 110, 130, 171 through 180, or may petition the Office of the Chief Counsel to add, amend, or delete a regulation in parts 105, 106, or 107. Petitions submitted to PHMSA are required to contain information as specified in § 106.100 of the HMR.

(2) Appeals: Except as provided in § 106.40(e), any person may submit an appeal to our actions in accordance with the Appeals procedures found in §§ 106.110 through 106.130.

(3) Applications for Special Permit: Any person applying for a special permit must include the citation of the specific regulation from which the applicant seeks relief; specification of the proposed mode or modes of transportation; detailed description of the proposed special permit (e.g., alternative packaging, test, procedure, or activity), including as appropriate, written descriptions, drawings, flow charts, plans and other supporting documents, etc. Under this OMB control number, applicants may apply for a new special permit, renew or modify an existing special permit, or request party status to a special permit. These procedures can be found in part 107, subpart B of the HMR.

(4) Applications for Preemption Determination: With the exception of highway routing matters covered under 49 U.S.C. 5125(c), any person directly affected by any requirement of a state, political subdivision, or Native American tribe may apply to the Chief Counsel for a determination whether that requirement is preempted by § 107.202(a), (b), or (c). The application must include the text of the state, political subdivision, or Native American tribe requirement for which the determination is sought; specify each requirement of the federal hazardous materials transportation law, regulations issued under the federal hazardous material transportation law, or hazardous material transportation security regulations or directives issued by the Secretary of Homeland Security with which the applicant seeks the state, political subdivision, or Native American tribe requirement to be compared; explain why the applicant believes the state, political subdivision, or Native American tribe requirement should or should not be preempted under the standards of § 107.202; and state how the applicant is affected by the state, political subdivision, or Native American tribe requirement.

(5) Waivers of Preemption: With the exception of requirements preempted under 49 U.S.C. 5125(c), any person may apply to the Chief Counsel for a waiver of preemption with respect to any requirement that: (1) The state, political subdivision thereof, or Native American tribe acknowledges to be preempted under the federal hazardous materials transportation law, or (2) has been determined by a court of competent jurisdiction to be so preempted. The Chief Counsel may waive preemption with respect to such requirement upon a determination that such requirement affords an equal or greater level of protection to the public than is afforded by the requirements of the federal hazardous materials transportation law or the regulations issued thereunder, and does not unreasonably burden commerce.

The information collected under these application procedures is used in the review process by PHMSA in determining the merits of the petitions for rulemakings and for reconsideration of rulemakings, as well as applications for special permits, preemption determinations, and waivers of preemption to the HMR. The procedures governing these petitions for rulemaking and for reconsideration of rulemakings are covered in subpart B of part 106. Applications for special permits, preemption, determinations, and waivers of preemption are covered under subparts B and C of part 107. Rulemaking procedures help PHMSA determine whether a regulatory change is necessary, is consistent with public interest, and maintains a level of safety equal to or superior to that of current regulations. Special permit procedures provide the information required for analytical purposes to determine whether the requested relief provides for a comparable level of safety as provided by the HMR. Additionally, PHMSA uses information from preemption procedures to determine whether a requirement of a state, political subdivision, or Indian tribe is preempted under 49 U.S.C. 5125, or regulations issued thereunder, or whether a waiver of preemption should be issued. The following information collections and their burdens are associated with this OMB Control Number:

Information collection | Annual respondents | Annual responses | Time per response | Annual burden hours
Petition for Rulemaking | 20 | 20 | 8 hours | 160
New Special Permit Application | 168 | 168 | 7 hours | 1,176
Party Status Special Permit Application | 576 | 576 | 1.5 hours | 864
Renewal Special Permit Application | 936 | 936 | 1.5 hours | 1,404
Modification Special Permit Application | 132 | 132 | 1 hour | 132
Special Permit Application—Recordkeeping | 1,852 | 1,852 | 6 minutes | 185
Designated Agent for Special Permit Application | 100 | 100 | 2 hours | 200
Confidential Handling for Special Permit Application | 31 | 31 | 15 minutes | 7.75
Preemption | 2 | 2 | 60 hours | 120
Preemption Reconsideration | 1 | 1 | 30 hours | 30

Affected Public: Shippers, carriers, packaging manufacturers, and other affected entities.

Annual Reporting and Recordkeeping Burden:

Number of Respondents: 3,818.

Total Annual Responses: 3,818.

Total Annual Burden Hours: 4,278.75.

Frequency of Collection: On occasion.

Title: Flammable Cryogenic Liquids.

OMB Control Number: 2137-0542.

Summary: Provisions in § 177.840(a)(2) specify certain safety procedures and documentation requirements for drivers of motor vehicles transporting flammable cryogenic liquids. This information allows the driver to take appropriate remedial actions to prevent a catastrophic release of the flammable cryogenics should the temperature of the material begin to rise excessively or if the travel time will exceed the safe travel time. These requirements are intended to ensure a high level of safety when transporting flammable cryogenics due to their extreme flammability and high compression ratio when in a liquid state. The following information collections and their burdens are associated with this OMB Control Number:

Information collection | Annual respondents | Annual responses | Time per response | Annual burden hours
Flammable Cryogenic Liquids | 175 | 18,200 | 3.5 minutes | 1,062
Flammable Cryogenic Liquids—Recordkeeping | 175 | 18,200 | 30 seconds | 152

Affected Public: Carriers of cryogenic materials.

Annual Reporting and Recordkeeping Burden:

Number of Respondents: 350.

Total Annual Responses: 36,400.

Total Annual Burden Hours: 1,214.

Frequency of Collection: On occasion.

Title: Response Plans for Shipments of Oil.

OMB Control Number: 2137-0591.

Summary: In recent years, several major oil discharges damaged the marine environment of the United States. Under authority of the Federal Water Pollution Control Act, as amended by the Oil Pollution Act of 1990 (33 U.S.C. 1251 et seq.), PHMSA issued regulations in 49 CFR part 130 that require preparation of basic written spill response plans. The following information collections and their burdens are associated with this OMB Control Number:

Information collection | Annual respondents | Annual responses | Time per response | Annual burden hours
Basic Written Response Plan—New Plans | 80 | 80 | 33 hours | 2,640
Basic Written Response Plan—Updating Plans | 7,920 | 7,920 | 1 hour | 7,920

Affected Public: Carriers that transport oil in bulk, by motor vehicle or rail.

Annual Reporting and Recordkeeping Burden:

Number of Respondents: 8,000.

Total Annual Responses: 8,000.

Total Annual Burden Hours: 10,560.

Frequency of Collection: On occasion.

Title: Requirements for United Nations (UN) Cylinders.

OMB Control Number: 2137-0621.

Summary: This information collection and recordkeeping burden is the result of efforts to amend the HMR to adopt standards for the design, construction, maintenance, and use of cylinders and multiple-element gas containers (MEGCs) based on the standards contained in the UN Recommendations on the Transport of Dangerous Goods. Aligning the HMR with the UN Recommendations promotes flexibility, permits the use of technological advances for the manufacture of the pressure receptacles, provides for a broader selection of pressure receptacles, reduces the need for special permits, and facilitates international commerce in the transportation of compressed gases. Information collection requirements address domestic and international manufacturers of cylinders that request approval by the approval agency for cylinder design types. The approval process for each cylinder design type includes review, filing, and recordkeeping of the approval application. The approval agency is required to maintain a set of the approved drawings and calculations for each design it reviews and a copy of each initial design type approval certificate approved by the Associate Administrator for the Office of Hazardous Materials Safety for not less than 20 years. The following information collections and their burdens are associated with this OMB Control Number:

Information collection | Total respondents | Total responses | Time per response | Total burden hours
UN Pressure Receptacle Approval—New Request | 35 | 35 | 6 hours | 210
UN Pressure Receptacle Approval—Modified Request | 100 | 100 | 6 hours | 600
UN Pressure Receptacle Approval—Recordkeeping | 75 | 75 | 6 minutes | 7.5

Affected Public: Fillers, owners, users, and retesters of UN cylinders.

Annual Reporting and Recordkeeping Burden:

Number of Respondents: 210.

Total Annual Responses: 210.

Total Annual Burden Hours: 817.5.

Frequency of Collection: On occasion.

Issued in Washington, DC, on August 4, 2021, under authority delegated in 49 CFR 1.97.
William A. Quade,
Deputy Associate Administrator of Hazardous Materials Safety, Pipeline and Hazardous Materials Safety Administration.

[FR Doc. 2021-16994 Filed 8-9-21; 8:45 am]

BILLING CODE 4910-60-P